DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: Robert M. Taylor, Sugarland, TX, PRT-035977

The applicant requests a permit to import the sport-hunted trophy of one male bontebok (Damaliscus pygargus dorcas) culled from a captive herd maintained under the management program of the Republic of South Africa, for the purpose of enhancement of the survival of the species.

Applicant: Andy Tomlinson, Prescott, AZ, PRT-034624

The applicant requests a permit to import the sport-hunted trophy of one male bontebok (Damaliscus pygargus dorcas) culled from a captive herd maintained under the management program of the Republic of South Africa, for the purpose of enhancement of the survival of the species.

Applicant: Selmer D. Lutey, Prescott, AZ, PRT-035213

The applicant requests a permit to import the sport-hunted trophy of one male bontebok (Damaliscus pygargus dorcas) culled from a captive herd maintained under the management program of the Republic of South Africa, for the purpose of enhancement of the survival of the species.

Applicant: Charles W. Sand Jr., Columbus, NE, PRT-036161

The applicant requests a permit to import the sport-hunted trophy of one male bontebok (Damaliscus pygargus dorcas) culled from a captive herd maintained under the management program of the Republic of South Africa, for the purpose of enhancement of the survival of the species.

Applicant: World Exotics, Naples, Florida, PRT-033397

The applicant requests a permit to export one pair of captive born tigers (Panthera tigris) to Pengiran Ratna Wijaya Brigadier General, Brunei Darussalam for the purpose of enhancement of the species through captive propagation.

Applicant: White Oak Conservation Center, Yulee, FL, PRT-033790

The applicant requests a permit to import 2 captive bred cheetahs (Acinonyx jubatus) from Wassenaar Wildlife Breeding Centre, the Netherlands, for the purpose of captive propagation.

Applicant: Richard L. Mahan, Bentonville, AR, PRT-036233

The applicant requests a permit to import the sport-hunted trophy of one male bontebok (Damaliscus pygargus dorcas) culled from a captive herd maintained under the management program of the Republic of South Africa, for the purpose of enhancement of the survival of the species.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: John Gulius, Wilkes-Barre, PA, PRT-035978

The applicant requests a permit to import a polar bear (Ursus maritimus) sport-hunted from the Lancaster Sound polar bear population, Northwest Territories, Canada for personal use.

Applicant: Eugene Bell, Shoemakersville, PA, PRT-036246

The applicant requests a permit to import a polar bear (Ursus maritimus) sport-hunted from the McClintock Channel polar bear population, Northwest Territories, Canada for personal use.

On September 19, 2000, a notice was published in the Federal Register, Vol. 65, No. 182, Page 56588, that an application had been filed with the Fish and Wildlife Service by USGS Biological Resources Division, Anchorage, AK for a permit (PRT-766818) to amend their permit to collect liver biopsy samples for the purpose of scientific research.

Notice is hereby given that on 10/27/2000, as authorized by the provisions of the Marine Mammal Protection Act of 1972, as amended (16 U.S.C. 1361 et seq.) the Fish and Wildlife Service authorized the requested permit subject to certain conditions set forth therein.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: November 21, 2000.
Charlie Chandler,
Chief, Branch of Permits, Division of Management Authority.

[FR Doc. 00-30285 Filed 11-27-00; 8:45 am]

BILLING CODE 4310-55-U